DEPARTMENT OF JUSTICE

Antitrust Division

Notice Pursuant to the National Cooperative Research and Production Act of 1993—3D PDF Consortium Inc.

Notice is hereby given that, on January 22, 2021, pursuant to Section 6(a) of the National Cooperative Research and Production Act of 1993, 15 U.S.C. 4301 et seq. (“the Act”), 3D PDF Consortium Inc. (“3D PDF”) has filed written notifications simultaneously with the Attorney General and the Federal Trade Commission disclosing changes in its membership. The notifications were filed for the purpose of extending the Act's provisions limiting the recovery of antitrust plaintiffs to actual damages under specified circumstances. Specifically, Kubotek3D, Marlborough, MA, has been added as a party to this venture.

Also, Linda Shave (individual), Endwell, NY; NetApp Inc., Waltham, MA; Patricia C. Franks (individual), NorthWard, Australia; Jean-François Blanchette (individual), Los Angeles, CA; KOM Software, Ottawa, Canada; Terri Jackson (individual), Waterloo, Canada; Amitabh Srivastav (individual), Ottawa, Canada; Lucidi Piergiorgio (individual), Roma, Italy; Ontario Lottery Group, Toronto, Canada; Kamel Shaath (individual), Ottawa, Canada; Owen Ambur (individual), Hilton Head, SC; Rick Laxman (individual), Salt Lake City, UT; Bill Corey (individual), Charlottesville, VA; National Institute of Standards and Technology (NIST) Engineering Lab, Gaithersburg, MD; AFP Consortium, Corvallis, OR; Association for Digital Document Standards e.V., Berlin, Germany; and Aras Corporation, Andover, MA, have withdrawn as parties to this venture.

Additionally, ITI TranscenData Business has changed its name to ITI, a Wipro company, Milford, OH.

No other changes have been made in either the membership or planned activity of the group research project. Membership in this group research project remains open, and 3D PDF intends to file additional written notifications disclosing all changes in membership.

On March 27, 2012, 3D PDF filed its original notification pursuant to Section 6(a) of the Act. The Department of Justice published a notice in the Federal Register pursuant to Section 6(b) of the Act on April 20, 2012 (77 FR 23754).

The last notification was filed with the Department on February 21, 2020. A notice was published in the Federal Register pursuant to Section 6(b) of the Act on March 11, 2020 (85 FR 14247).

Suzanne Morris,
Chief, Premerger and Division Statistics, Antitrust Division.

[FR Doc. 2021-02919 Filed 2-11-21; 8:45 am]

BILLING CODE P